DEPARTMENT OF COMMERCE

Foreign-Trade Zones Board

[Docket 43-2004]

Foreign-Trade Zone 8—Toledo, OH, Area; Application for Expansion

An application has been submitted to the Foreign-Trade Zones (FTZ) Board (the Board), by the Toledo-Lucas County Port Authority, grantee of FTZ 8, requesting authority to expand its zone in the Toledo, Ohio, area, within the Toledo/Sandusky Customs port of entry. The application was submitted pursuant to the provisions of the Foreign-Trade Zones Act, as amended (19 U.S.C. 81a-81u), and the regulations of the Board (15 CFR part 400). It was formally filed on September 20, 2004.

FTZ 8 was approved on October 11, 1960 (Board Order 51, 25 FR 9909, 10/15/60) and expanded on January 22, 1973 (Board Order 92, 38 FR 3015, 1/31/73); on January 11, 1985 (Board Order 277, 50 FR 2702, 1/18/85); on August 19, 1991 (Board Order 532, 56 FR 42026, 8/26/91); on June 12, 2000 (Board Order 1102, 65 FR 37960, 6/19/00); and, on June 7, 2002 (Board Order 1231, 67 FR 41393, 6/18/02).

The general-purpose zone project currently consists of four sites (959 acres) in the Toledo area: Site 1 (150 acres)—Overseas Cargo Center within the Port of Toledo complex; Site 2 (337 acres)—Toledo Express Airport, Swanton; Site 3 (10 acres)—First Choice Packaging warehouse facility, #1501 West State Street, Fremont; and, Site 4 (462 acres)—Cedar Point Development Park and adjacent areas, located east of Lallendorf Road, south of Cedar Point Road and west of Wynn Road, Oregon, Ohio. An application is currently pending with the FTZ Board to expand FTZ 8 to include a site at the Ohio Northern Global Distribution & Business Center (Proposed Site 5) in Walbridge, Ohio (Docket 24-2004).

The applicant is now requesting authority to expand the general-purpose zone to include an additional site in Toledo: Proposed Site 6 (86 acres) at the Greenbelt Development Park located north of Magnolia Street, east of the Greenbelt Parkway, west of Michigan Street and south of Interstate 280. The site will be used primarily for warehousing and distribution activities. The owners of the site are the City of Toledo, Libbey Glass Inc, Ja. P.M. Corporation and Norfolk Southern Railroad. No specific manufacturing authority is being requested at this time. Such requests would be made on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099 14th Street, NW, Washington, DC 20005; or,

2. Submissions via the U.S. Postal Service: Foreign-Trade Zones Board, U.S. Department of Commerce, FCB-Suite 4100W, 1401 Constitution Avenue, NW, Washington, DC 20230.

The closing period for their receipt is November 23, 2004. Rebuttal comments in response to material submitted during the foregoing period may be submitted during the subsequent 15-day period (to December 8, 2004).

A copy of the application and accompanying exhibits will be available during this time for public inspection at address Number 1 listed above, and at the U.S. Department of Commerce Export Assistance Center, 300 Madison Avenue, Suite 270, Toledo, OH 43604.

Dated: September 20, 2004.
Dennis Puccinelli,
Executive Secretary.

[FR Doc. 04-21516 Filed 9-23-04; 8:45 am]

BILLING CODE 3510-DS-P